ENVIRONMENTAL PROTECTION AGENCY

40 CFR Part 372

[EPA-HQ-OPPT-2018-0155; FRL-6004-02-OCSPP]

RIN 2070-AK42

Parent Company Definition for Toxics Release Inventory (TRI) Reporting

AGENCY: Environmental Protection Agency (EPA).

ACTION: Final rule.

SUMMARY: The Environmental Protection Agency (EPA) is finalizing a rule to codify the definition of “parent company” for purposes of reporting to the Toxics Release Inventory (TRI) and to require the reporting of a foreign parent company when applicable. The existing regulation requires facilities reporting to TRI to identify their parent company in annual reporting forms. This rule adds a codified definition of this data element. Among the facilities reporting to TRI are those with complicated corporate ownership structures. As such, effort is required each year by reporting facilities and EPA to clarify how the parent company data element should be represented on the form. A codified definition of parent company will allow EPA to address various corporate ownership scenarios explicitly and will reduce the reporting burden caused by regulatory uncertainty. This rule clarifies existing requirements to reporting facilities and adds a foreign parent company data element, while improving the Agency's data quality.

DATES: This final rule is effective on December 20, 2022.

ADDRESSES: The docket for this action, identified under docket identification (ID) number EPA-HQ-OPPT-2018-0155, is available online at https://www.regulations.gov or in person at the Office of Pollution Prevention and Toxics Docket (OPPT Docket) in the Environmental Protection Agency Docket Center (EPA/DC). Please review the visitor instructions and additional information about the docket available at https://www.epa.gov/dockets.

FOR FURTHER INFORMATION CONTACT:

For technical information contact: Stephanie Griffin, Data Gathering and Analysis Division, (7406M), Office of Pollution Prevention and Toxics, Environmental Protection Agency, 1200 Pennsylvania Ave. NW, Washington, DC 20460-0001; telephone number: (202) 564-1463; email address: griffin.stephanie@epa.gov.

For general information contact: The Emergency Planning and Community Right-to-Know Information Center; telephone number: (800) 424-9346, TDD (800) 553-7672; website: https://www.epa.gov/aboutepa/epa-hotlines#epcraic.

SUPPLEMENTARY INFORMATION:

I. Executive Summary

A. Does this action apply to me?

You may be potentially affected by this action if your facility submits annual reports under section 313 of the Emergency Planning and Community Right-to-Know Act (EPCRA), 42 U.S.C. 11023, and section 6607 of the Pollution Prevention Act (PPA), 42 U.S.C. 13106, to EPA and States or Tribes of the facility's environmental releases or other waste management quantities of covered chemicals. (Pursuant to 40 CFR 372.30(a), facilities located in Indian country are required to report to the appropriate tribal government official and EPA instead of to the State and EPA. See April 19, 2012 (77 FR 23409) (FRL-9660-9)). To determine whether your facility is affected by this action, you should carefully examine the applicability criteria in 40 CFR part 372, subpart B. The following list of North American Industrial Classification System (NAICS) codes is not intended to be exhaustive, but rather provides a guide to help readers determine whether this document applies to them. Potentially affected entities may include:

• Facilities included in the following NAICS manufacturing codes (corresponding to Standard Industrial Classification (SIC) codes 20 through 39): 311*, 312*, 313*, 314*, 315*, 316, 321, 322, 323*, 324, 325*, 326*, 327, 331, 332, 333, 334*, 335*, 336, 337*, 339*, 111998*, 113310, 211130*, 212324*, 212325*, 212393*, 212399*, 488390*, 511110, 511120, 511130, 511140*, 511191, 511199, 512230*, 512250*, 519130*, 541713*, 541715*, or 811490*. (*Exceptions and/or limitations exist for these NAICS codes.)

• Facilities included in the following NAICS codes (corresponding to SIC codes other than SIC codes 20 through 39): 212111, 212112, 212113 (corresponds to SIC code 12, Coal Mining (except 1241)); or 212221, 212222, 212230, 212299 (corresponds to SIC code 10, Metal Mining (except 1011, 1081, and 1094)); or 221111, 221112, 221113, 221118, 221121, 221122, 221330 (all are limited to facilities that combust coal and/or oil for the purpose of generating power for distribution in commerce) (corresponds to SIC codes 4911, 4931, and 4939, Electric Utilities); or 424690, 425110, 425120 (limited to facilities previously classified in SIC code 5169, Chemicals and Allied Products, Not Elsewhere Classified); or 424710 (corresponds to SIC code 5171, Petroleum Bulk Terminals and Plants); or 562112 (limited to facilities primarily engaged in solvent recovery services on a contract or fee basis (previously classified under SIC code 7389, Business Services, NEC)); or 562211, 562212, 562213, 562219, 562920 (limited to facilities regulated under the Resource Conservation and Recovery Act, subtitle C, 42 U.S.C. 6921 et seq.) (corresponds to SIC code 4953, Refuse Systems).

• Federal facilities.

• Any facility which the EPA Administrator has determined to be subject to TRI reporting requirements under the discretionary authority of EPCRA section 313(b)(2).

B. What is the Agency's authority for taking this action?

EPA is taking this action under EPCRA sections 313(g)(1) and 328, 42 U.S.C. 11023(g)(1) and 11048.

In general, EPCRA section 313 requires owners and operators of covered facilities in specified SIC codes that manufacture, process, or otherwise use listed toxic chemicals in amounts above specified threshold levels to report certain facility specific information about such chemicals, including the annual releases and other waste management quantities. EPCRA section 313(g)(1) requires EPA to publish a uniform toxic chemical release form for these reporting purposes, and it also prescribes, in general terms, the types of information that must be submitted on the form. Congress also granted EPA broad rulemaking authority to allow the Agency to fully implement the statute, to ensure the release forms are available to inform the public of toxic chemical releases and “to assist governmental agencies, researchers, and other persons in the conduct of research and data gathering” (EPCRA section 313(h), 42 U.S.C. 11023(h)).

EPCRA section 328 (42 U.S.C. 10048) states that: “The Administrator may prescribe such regulations as may be necessary to carry out this chapter.”

C. What action is the Agency taking?

EPA is codifying the definition of “parent company” for TRI reporting purposes. Under this rule, EPA is clarifying existing guidance and providing reporting clarity for facilities, including those owned by corporate subsidiaries, multiple owners, foreign entities, or that are publicly owned. EPA is also requiring facilities to report their highest-level foreign parent company, when applicable, beginning with Reporting Year 2023, for forms due by July 1, 2024 and for each subsequent reporting year. With this rule, the definition of “parent company” for TRI reporting is more closely aligned with definitions under other reporting programs, including the Chemical Data Reporting (CDR) rule (40 CFR part 711) and the Greenhouse Gas Reporting Program (GHGRP) rule (40 CFR part 98).

The definition of “parent company” within TRI reporting regulations is the highest-level company with the largest ownership interest in the TRI facility as of December 31 of the reporting year. This addresses the following ownership scenarios:

• A facility is owned by a single company, which is not owned by another company;

• A facility is owned by a single company, which is owned by another company;

• A facility is owned by multiple companies, including companies that are themselves owned by other entities;

• A facility is owned by a joint venture or cooperative;

• A facility is owned, at least in part, by a foreign company; and

• A facility is owned by the Federal Government, or a state, tribal, or municipal government.

EPA is also requiring facilities reporting to TRI to use standardized naming conventions for parent company reporting, as provided in the annual TRI Reporting Forms and Instructions (RFI), available as a downloadable Excel file (“Standardized Parent Company Names”) at https://www.epa.gov/tri/rfi. These naming conventions address common formatting discrepancies, such as punctuation, capitalization, and abbreviations (for example, “Corp” for “Corporation”).

D. Why is the Agency taking this action?

Facilities required to report to TRI must also report their parent companies and identify whether any reportable off-site transfers of TRI chemicals are sent to a facility also owned by that same parent company. Reporting facilities rely on the TRI RFI to report this information and to address questions, including what constitutes a “parent company” for TRI reporting purposes. The RFI does not address all scenarios applicable to many TRI facilities, including facilities owned by subsidiaries of larger companies; facilities with multiple owners, none of whom are a majority owner; joint ventures that are not purely 50:50; facilities directly owned by foreign entities; and, publicly-owned facilities. Because the Agency's longstanding guidance has repeatedly resulted in reporter confusion in situations such as a facility having multiple owners, or when no single entity owns at least 50 percent of a facility, EPA is taking this action to provide certainty over what must be reported for this data element. In addition to greater regulatory certainty and clarity for facilities, the Agency believes this will also provide time-saving benefits for both EPA and the reporting community. In previous years, the Agency has found that many facilities, relying only on a broad definition of “parent company” in the RFI, inaccurately report parent company information to TRI, resulting in repeated efforts to contact individual facilities to verify their facility's ownership structure after each reporting year.

EPA is also requiring the use of a standardized naming convention for parent companies, including identical punctuation and capitalization styles or using common abbreviations (for example, reporting “Inc” for “Incorporation”) (Ref. 1). The conventions have been included in TRI guidance for several reporting cycles, and their inclusion in the CFR would formalize the requirement to adhere to them for the purpose of TRI data harmonization. The naming convention is primarily a tool to streamline the data quality and aggregation activities on submitted data. Thus, TRI reports and EPA databases more accurately reflect which facilities are owned by the same parent company, rather than counting parent companies reported with variations in spelling, capitalization, punctuation, or abbreviations as unique companies.

EPA is also finalizing the requirement for TRI facilities to submit their highest-level foreign parent company, where applicable. EPA recognizes that there are a variety of ownership situations for TRI facilities. In some situations, a TRI facility is owned, at least in part, by a company outside of the United States. In these cases, the facility is required to report on both their highest-level U.S.-based and foreign parent companies, as applicable. Collecting the highest-level foreign parent company name in addition to the highest level-U.S.-based parent company name ensures greater data consistency for TRI data users than just including one name (i.e., either the highest-level U.S.-based company, or the foreign parent company). TRI data users include researchers, industry, the public, and other EPA and government reporting programs. The distinct data elements for U.S.-based and foreign parent company names enable data users to include or exclude any foreign parent companies from analyses or searches as they choose. Conversely, allowing either a U.S.-based or foreign parent company name to be reported for the same data element (i.e., a single parent company field, regardless of location) would prevent TRI's public data tools from distinguishing companies that are owned by U.S.-based entities from those that are foreign-owned. This single data element would prevent any data user from reasonably and efficiently determining where the company is based, unless further data of the listed parent company, such as address, was also required.

EPA is finalizing the requirement for reporting a foreign parent company to begin with Reporting Year 2023, for forms due by July 1, 2024. The later date for this requirement will both enable EPA to update the TRI-MEweb reporting software with the beginning of a new reporting year, and the reporting community to familiarize themselves with the new data requirement.

Ultimately, this rule more closely aligns the definition of parent company for TRI reporters with the definition codified by the CDR Program at 40 CFR 711.3. Differences in this proposed definition and the definition codified in the CDR regulations result from differences in the respective programs' longstanding terms of art (e.g., TRI uses “facilities,” whereas CDR uses “sites”), as well as from edits intended to provide greater clarity in the TRI context. For instance, the TRI definition slightly differs from CDR regulations in the paragraph referring to 50:50 joint ventures (40 CFR 372.3) in order to clarify that a joint venture should be reported as its own parent company, irrespective of whether any of the joint participants is owned by a higher-level company. Nonetheless, this codified definition of “parent company” under TRI is much closer to the codified definition under CDR. Having nearly identical definitions between the TRI and CDR programs supports EPA's ability to compare the databases for data quality purposes. Additionally, the GHGRP has codified the definition of parent company at 40 CFR 98.3(c)(11). While the GHGRP definition of this data element has some differences from the CDR definition and this rule's definition, there are many similarities across the definitions, including the need to report the highest-level company in the facility's ownership hierarchy and the requirement to refer to reporting instructions for standardized naming conventions. Thus, this definition and reporting requirement is similar to those already codified under other EPA reporting rules. This rule promotes understanding of the data element within the regulated community, especially among those facilities which also report to CDR and are already familiar with the codified definition.

E. What are the estimated incremental impacts of this action?

EPA has evaluated the potential incremental impacts of this rule. The details are presented in the economic analysis prepared for the rule (Ref. 2), which is available in the docket and is briefly summarized in this unit.

EPA estimates the incremental impacts across all facilities to be up to $1,239,572 in the first year, and up to $14,238 every subsequent year, with no annualized capital or operation and maintenance costs. The paperwork burden is estimated to be up to 17,833 hours the first year, and up to 205 hours every subsequent year. However, these estimated impacts do not include the cost and time savings for facilities who have previously had difficulty interpreting EPA's guidance on this data element, nor do these impacts include the reduced need for communication between the Agency and facilities in the annual effort to standardize parent company names. The benefits of the rule are described qualitatively in the economic analysis, as some of the benefits are unable to be monetized (such as the improved ability of various TRI data users to analyze parent company-level information thoroughly); thus, the estimated incremental impact listed does not factor in benefits. EPA estimates that a total of 21,154 entities (i.e., all TRI reporting facilities) are impacted by this rule.

II. Background

As discussed in the proposed rule (Ref. 3), EPA proposed to codify a definition of “parent company” for TRI reporting purposes and to require the reporting of the foreign parent company when applicable. In the proposed rule, EPA described how codifying this definition provides greater clarity to TRI reporting facilities and greater consistency with other reporting programs. While EPA proposed adding a data element for the highest-level foreign parent company, the Agency specifically requested public comment on this proposed additional data element. The proposed rule Economic Analysis (Ref. 4) also provided estimated burden and costs associated with three different scenarios: simply codifying a definition of “parent company” and not requiring the reporting of foreign parent companies; codifying a definition of “parent company” and requiring only the reporting of the highest-level parent company of the facility, which may be a U.S. or foreign company; and codifying a definition of “parent company” and requiring the reporting of the U.S. parent company and foreign parent company, if applicable.

In the proposed rule, EPA estimated the incremental burden of the action, under Option 3 which would require reporting both the highest-level U.S. parent company and foreign parent company, if applicable. The estimated incremental burden was 18,091 hours across the entire reporting universe of 21,458 facilities in the first year, while subsequent reporting years would see an impact of 210 hours.

III. Summary of Comments and EPA Responses

In response to the proposed rule, EPA received four public comments. The commenters included two individuals (one anonymous), one law firm on behalf of a client, and one state environmental agency. This unit summarizes the comments received and EPA's response to each comment.

Comment #1. One private citizen was supportive of the rule to promote corporate accountability. The commenter also suggested that TRI track carbon dioxide emissions.

EPA response. Although carbon dioxide is not a TRI listed chemical, and therefore TRI does not track carbon dioxide emissions, EPA appreciates the commenter's support of the rule. EPA also points out that the Agency has other information reporting programs which may provide such data, such as the GHGRP which tracks facility-level emissions from the largest sources of greenhouse gas emissions in the U.S.

Comment #2. The anonymous commenter was critical of the rule, stating that codifying this data element only serves to boost EPA's enforcement authority against facilities who misreport their parent company name. The commenter also questioned EPA's claims of how the proposed rule may improve TRI data quality and reduce burden for correcting submitted parent company information. The commenter also thought that requiring facilities to report the foreign parent in addition to the U.S.-based parent would be burdensome for the respondent and should not be required.

EPA response. EPA appreciates this perspective and understands that requiring corporate structure data elements for reporting to TRI may cause minimal work to each facility in the first year of reporting. EPA respectfully disagrees that codifying these data elements will not lead to improved data quality outcomes. Rather, EPA's experience with TRI facility submissions for parent company information is that lack of a codified definition results in inconsistent data. EPA believes that without a codified definition, there would be continued inconsistency in naming conventions, conflicting interpretations of the data elements, and an inability to perform trend analysis across all TRI facilities.

Comment #3. The law firm commenter generally supports the rule and encourages TRI facilities to reduce their toxic chemical releases. The commenter also advocated for clearer guidance for determining which entity should report under TRI for those facilities with complex corporate structures (i.e., when the facility owner and operator are different entities, and the facility owner does not have operating or permitting control).

EPA response. EPA appreciates the commenter's support of the rule. In response to the commenter's questions related to reporting responsibilities between different facility owners and operators, EPA would direct the commenter to the language in EPCRA and in the TRI implementing regulations, as well as longstanding guidance documents, for clarity on which entity is responsible for reporting. For instance, under ECPRA section 313(b)(1), TRI reporting requirements apply to both “owners and operators of [covered facilities]”. EPA has also codified this requirement at 40 CFR 372.5. Additionally, TRI reporting guidance materials reiterate that both the owner and operator of a covered facility are subject to reporting requirements, and both may be liable for penalties if no reports are received from a covered facility. However, for practical purposes, EPA believes the operator is generally more likely to have necessary information for TRI reporting. Readers are directed to TRI Q&As for additional information, including Q&A 86 (Ref. 5).

Comment #4. The state environmental agency commenter did not support the rule, stating that EPA's focus on this data element is “misplaced” in light of “ongoing misperception” caused by the TRI. The commenter submitted comments on TRI data including that reported releases do not distinguish between permitted and regulated releases (such as to POTWs or waste storage areas) and unauthorized releases. The commenter requested that EPA distinguish those types of releases in the TRI data by collecting and reporting releases by percentage of regulated releases. The commenter also suggested that EPA focus efforts on certain entities including plastics, pharmaceuticals, and other manufacturers.

EPA response. EPA appreciates the concerns expressed by the commenter and their depth of knowledge regarding the TRI program. However, the concerns outlined in their comments are beyond the scope of the proposed rule.

IV. Summary of Final Rule

EPA is finalizing the rule as proposed. The Agency also updated the estimated incremental impacts of this action based on 2022 wage rates and the number of TRI reporting facilities for Reporting Year 2020, the most recent year for which EPA has complete data at this time (Ref. 2). EPA considered public comments received and the estimated incremental costs of the three options discussed in the proposed rule, including the addition of a data requirement for a highest-level foreign parent company. The economic impact analysis demonstrates that the costs of requiring both a U.S.-based and foreign parent company are minimal, especially with the use of TRI-MEweb, EPA's web-based TRI reporting tool. When facilities input their parent company(ies), the information is only needed once to apply across all reporting forms, and information submitted in previous years can be imported to forms submitted for subsequent years if the information has not changed. Thus, TRI facilities need only to provide this information once, unless and until the appropriate parent company(ies) changes. Thus, TRI facilities must report their highest-level U.S.-based parent companies, following the definition of “parent company” as codified in 40 CFR 372, beginning with Reporting Year 2022, for which reports are due by July 1, 2023. TRI facilities must also report their highest-level foreign parent company, if applicable, beginning with Reporting Year 2023, for which reports are due by July 1, 2024.

V. References

The following is a listing of the documents that are specifically referenced in this document. The docket includes these documents and other information considered by EPA, including documents that are referenced within the documents that are included in the docket, even if the referenced document is not physically located in the docket. For assistance in locating these other documents, please consult the technical person listed under FOR FURTHER INFORMATION CONTACT.

1. EPA, OPPT. RY 2021—Standardized Parent Company Names. January 2022. https://ordspub.epa.gov/ords/guideme_ext/f?p=guideme:rfi-home#downloadable.

2. EPA, OPPT. Economic Analysis of the Parent Company Definition for TRI Reporting. July 18, 2022.

3. EPA. Proposed Rule; Parent Company Definition for Toxics Release Inventory (TRI) Reporting. Federal Register. 86 FR 53577, September 28, 2021 (FRL-6004-01-OCSPP).

4. EPA, OPPT. Economic Analysis of the Proposed Parent Company Definition for TRI Reporting. March 29, 2021.

5. EPA. ECPRA Section 313 Questions & Answers: 2019 Consolidation Document. April 2019. https://ordspub.epa.gov/ords/guideme_ext/guideme_ext/guideme/file/2019qa.pdf.

6. EPA. Supporting Statement for an Information Collection Request (ICR) under the Paperwork Reduction Act (PRA); entitled “Parent Company Definition for TRI Reporting; Final Rule (RIN 2070AK42).” EPA ICR No. 2597.02; OMB Control No. 2070-0216. October 2022.

VI. Statutory and Executive Order Reviews

Additional information about these statutes and Executive Orders can be found at https://www.epa.gov/laws-regulations/laws-and-executive-orders#influence.

A. Executive Order 12866: Regulatory Planning and Review and Executive Order 13563: Improving Regulation and Regulatory Review

This action is not a significant regulatory action and was therefore not submitted to the Office of Management and Budget (OMB) for review under Executive Orders 12866 (58 FR 51735, October 4, 1993) and 13563 (76 FR 3821, January 21, 2011).

B. Paperwork Reduction Act (PRA)

The information collection activities in this final rule have been submitted for approval to OMB under the PRA, 44 U.S.C. 3501 et seq. The information Collection Request (ICR) document that EPA prepared is assigned EPA ICR No. 2597.02 and identified by OMB Control No. 2070-0216 (Ref. 6). You can find a copy of the ICR in the rulemaking docket and it is briefly summarized in this unit. The information collection requirements are not enforceable until OMB approves them.

Currently, the facilities subject to the reporting requirements under EPCRA section 313 and PPA section 6607 may use either EPA Toxic Chemicals Release Inventory Form R (EPA Form 1B9350-1), or EPA Toxic Chemicals Release Inventory Form A (EPA Form 1B9350-2), as appropriate under 40 CFR 372. OMB has approved the reporting and recordkeeping requirements related to Forms A and R, supplier notification and petitions under OMB Control number 2070-0212 (EPA ICR No. 2613.04) and those related to trade secret designations under OMB Control 2050-0078 (EPA ICR No. 1428.11). As such, once this ICR is approved, EPA intends to ask OMB to amend the existing ICR to include the following additional details:

Respondents/affected entities: See Unit I.A. of this document. This action will not change the universe of TRI reporting facilities.

Respondent's obligation to respond: Mandatory (EPCRA section 313).

Estimated number of respondents: 21,154 facilities.

Frequency of response: Annual.

Total estimated burden: Across all facilities, the total first year burden hours will be up to17,833 hours and up to 205 burden hours every subsequent year. Burden is defined at 5 CFR 1320.3(b).

Total estimated cost: Up to $1,239,572 in the first year and up to $14,238 every subsequent year. This estimate includes $0 annualized capital or operation and maintenance costs.

An agency may not conduct or sponsor, and a person is not required to respond to, a collection of information unless it displays a currently valid OMB control number. The OMB control numbers for EPA regulations in 40 CFR are listed in 40 CFR part 9. When OMB approves this ICR, the Agency will announce that approval in the Federal Register.

C. Regulatory Flexibility Act (RFA)

I certify that this action will not have a significant economic impact on a substantial number of small entities under the RFA, 5 U.S.C. 601 et seq. In making this determination, EPA concludes that the impact of concern for this rule is any significant adverse economic impact on small entities and that the agency is certifying that this rule will not have a significant economic impact on a substantial number of small entities because the rule has no net burden on the small entities subject to the rule.

The small entities subject to the requirements of this action are TRI facilities, which include small privately-owned facilities and municipal government-owned facilities who are required to report to EPA under EPCRA section 313. Based on the results of the small entity analysis, a total of 7,669 small parent entities are estimated to be parent companies of TRI reporting facilities (7,653 private businesses and 16 municipalities). The Agency has determined that all small entities impacted by this rule will incur compliance costs less than one percent of revenues under the rule and only in the first year following this rule's effective date. Details of this analysis are presented in the Economic Analysis of the final rule (Ref. 2), which is available in the docket. The Agency has therefore concluded that this action will not have a significant economic impact on a substantial number of small entities.

D. Unfunded Mandates Reform Act (UMRA)

This action does not contain any unfunded mandate as described in UMRA, 2 U.S.C. 1531-1538, and does not significantly or uniquely affect small governments. The action imposes no enforceable duty on any state, local or tribal governments or the private sector.

E. Executive Order 13132: Federalism

This action does not have federalism implications, as specified in Executive Order 13132 (64 FR 43255, August 10, 1999). It will not have substantial direct effects on the states, on the relationship between the National Government and the states, or on the distribution of power and responsibilities among the various levels of government.

F. Executive Order 13175: Consultation and Coordination With Indian Tribal Governments

This action does not have tribal implications as specified in Executive Order 13175 (65 FR 67249, November 9, 2000) because it will not have substantial direct effects on tribal governments, on the relationship between the Federal government and the Indian tribes, or on the distribution of power and responsibilities between the Federal government and Indian tribes. This rule will not impose substantial direct compliance costs on Indian tribal governments, nor would it change the relationship between the Federal government and Indian tribes. This rule only impacts Indian tribes if they own or operate a TRI reporting facility and are required to report to EPA under EPCRA section 313. Because TRI facilities owned or operated by public entities do not have foreign parent companies, this rule does not impose any additional reporting requirements on those facilities or public entities. Thus, Executive Order 13175 does not apply to this action.

G. Executive Order 13045: Protection of Children From Environmental Health Risks and Safety Risks

EPA interprets Executive Order 13045 (62 FR 19885, April 23, 1997) as applying only to those regulatory actions that concern environmental health or safety risks that the EPA has reason to believe may disproportionately affect children, per the definition of “covered regulatory action” in section 2-202 of the Executive Order. This action is not subject to Executive Order 13045 because it does not concern an environmental health risk or safety risk.

H. Executive Order 13211: Actions Concerning Regulations That Significantly Affect Energy Supply, Distribution, or Use

This action is not a “significant energy action” as defined in Executive Order 13211 (66 FR 28355, May 22, 2001) because it is not likely to have a significant adverse effect on the supply, distribution or use of energy and has not otherwise been designated as a significant energy action by the Administrator of the Office of Information and Regulatory Affairs.

I. National Technology Transfer and Advancement Act (NTTAA)

This action does not involve technical standards that would require Agency consideration under NTTAA section 12(d), 15 U.S.C. 272.

J. Executive Orders 12898: Federal Actions To Address Environmental Justice in Minority Populations and Low-Income Populations and Low-Income Populations and Executive Order 14008: Tackling the Climate Crisis at Home and Abroad

EPA believes that this action is not subject to Executive Order 12898 (59 FR 7629, February 16, 1994) and Executive Order 14008 (86 FR 7619, January 27, 2021) because this rule does not establish an environmental health or safety standard.

K. Congressional Review Act (CRA)

This action is subject to the CRA, 5 U.S.C. 801 et seq., and EPA will submit a rule report to each House of the Congress and to the Comptroller General of the United States. This action is not a “major rule” as defined by 5 U.S.C. 804(2).

List of Subjects in 40 CFR Part 372

Community right-to-know, Environmental protection, Reporting and recordkeeping.

Dated: October 17, 2022
Michal Freedhoff,
Assistant Administrator, Office of Chemical Safety and Pollution Prevention.

Therefore, for the reasons stated in the preamble, EPA is amending 40 CFR part 372 as follows:

PART 372 TOXIC CHEMICAL RELEASE REPORTING COMMUNITY RIGHT-TO-KNOW

1. The authority citation for part 372 continues to read as follows:

Authority: 42 U.S.C. 11023 and 11048.

2. In § 372.3, add in alphabetical order a definition for “Parent company” to read as follows:

§ 372.3 Definitions.

* * * * *

Parent company means the highest-level company (or companies) of the facility's ownership hierarchy as of December 31 of the year for which data are being reported according to the following instructions. The U.S. parent company is located within the United States while the foreign parent company is located outside the United States:

(1) If the facility is entirely owned by a single U.S. company that is not owned by another company, that single company is the U.S. parent company.

(2) If the facility is entirely owned by a single U.S. company that is, itself, owned by another U.S.-based company (e.g., it is a division or subsidiary of a higher-level company), the highest-level company in the ownership hierarchy is the U.S. parent company. If there is a higher-level parent company that is outside of the United States, the highest-level foreign company in the ownership hierarchy is the foreign parent company.

(3) If the facility is owned by more than one company (e.g., company A owns 40 percent, company B owns 35 percent, and company C owns 25 percent), the highest-level U.S. company with the largest ownership interest in the facility is the U.S. parent company. If there is a higher-level foreign company in the ownership hierarchy, that company is the foreign parent company.

(4) If the facility is owned by a 50:50 joint venture or a cooperative, the joint venture or cooperative is its own parent company.

(5) If the facility is entirely owned by a foreign company (i.e., without a U.S.-based subsidiary within the facility's ownership hierarchy), the highest-level foreign parent company is the facility's foreign parent company.

(6) If the facility is federally owned, the highest-level Federal agency or department operating the facility is the U.S. parent company.

(7) If the facility is owned by a non-Federal public entity (e.g., a State, municipal, or tribal government), that entity is the U.S. parent company.

* * * * *

3. In § 372.85 revise paragraph (b)(8) to read as follows:

§ 372.85 Toxic chemical release reporting form and instructions.

* * * * *

(b) * * *

(8) Name of the facility's parent company, including:

(i) Legal name of the facility's highest-level U.S.-based parent company and its Dun and Bradstreet identification number, when applicable.

(ii) Beginning with the reporting year ending December 31, 2023, for which reporting forms are due July 1, 2024, and for each subsequent reporting year, the legal name of the facility's highest-level foreign parent company and its Dun and Bradstreet identification number, when applicable.

(iii) The facility must report using the standardized conventions for the naming of a parent company as provided in the toxic chemical release inventory reporting instructions identified in paragraph (a) of this section.

* * * * *

4. In § 372.95 revise paragraph (b)(12) to read as follows:

§ 372.95 Alternate threshold certification and instructions.

* * * * *

(b) * * *

(12) Name of the facility's parent company, including:

(i) Legal name of the facility's highest-level U.S.-based parent company and its Dun and Bradstreet identification number, when applicable.

(ii) Beginning with the reporting year ending December 31, 2023, for which reporting forms are due July 1, 2024, and for each subsequent reporting year, the legal name of the facility's highest-level foreign parent company and its Dun and Bradstreet identification number, when applicable.

(iii) The facility must report using the standardized conventions for the naming of a parent company as provided in the toxic chemical release inventory reporting instructions identified in paragraph (a) of this section.

* * * * *

[FR Doc. 2022-22833 Filed 10-20-22; 8:45 am]

BILLING CODE 6560-50-P